DEPARTMENT OF AGRICULTURE

Rural Utilities Service

Grants for State Revolving Loan Funds for Fuel Purchases

AGENCY: Rural Utilities Service, USDA.

ACTION: Notice of funding availability (NOFA).

SUMMARY: The Rural Utilities Service (RUS) of the United States Department of Agriculture (USDA) announces the availability of up to $5,000,000 for fiscal year (FY) 2001 in a new program of grants to state entities to establish and support revolving loan funds to provide a more cost-effective means of purchasing fuel for communities where the fuel cannot be shipped by means of surface transportation. This notice describes the grant eligibility and application requirements, and the criteria that will be used by RUS to award grants. The intended effect of this NOFA is to make grant funds available as expeditiously as possible to enable grantees to assist persons, particularly those in isolated rural areas, in meeting their critical fuel needs during a period of growing demand and high energy prices.

DATES: Applications for grants must be postmarked no later than August 6, 2001, to be considered. Grant applications will be accepted on publication of this notice.

ADDRESSES: Applications are to be submitted to the Rural Utilities Service, U.S. Department of Agriculture, 1400 Independence Avenue, SW., STOP 1560, Room 4037 South Building, Washington, DC 20250-1522. The applicant should submit an original and two copies of the proposal, with all required forms and documentation in one package. The package should be marked “Attention: State Fuel Purchase Revolving Loan Fund Grants.”

FOR FURTHER INFORMATION CONTACT: Karen Larsen, Management Analyst, U.S. Department of Agriculture, Rural Utilities Service, Electric Program, 1400 Independence Avenue, SW., STOP 1560, Room 4037 South Building, Washington, DC 20250-1560. Telephone 202-720-9545, Fax 202-690-0717, email klarsen@rus.usda.gov.

SUPPLEMENTARY INFORMATION:

Programs Affected

The Catalog of Federal Domestic Assistance Program number assigned to this program is 10.857.

Information Collection and Recordkeeping Requirements

Under the Paperwork Reduction Act (44 U.S.C. 3501 et seq.) (the “Act”), OMB must approve all “collections of information” by RUS. The Act defines “collection of information” as a requirement for “answer to * * * identical reporting or recordkeeping requirements imposed on ten or more persons * * *.” (44 U.S.C. 3502(3)(A).) RUS has concluded that the reporting requirements contained in this NOFA will involve less than 10 persons and do not require approval under the provisions of the Act.

Background

For FY 2001, RUS will make available up to $5,000,000 under a new grant program authorized by section 19 of the Rural Electrification Act of 1936, as amended (7 U.S.C. 901 et seq.). Section 19(a)(3) authorizes the Secretary, acting through RUS, to make grants to State entities that were in existence as of November 30, 2000, the date of the enactment of section 19, “to establish and support a revolving fund to provide a more cost-effective means of purchasing fuel where the fuel cannot be shipped by means of surface transportation.” Fuel purchases typically would include, but are not limited to purchases of fuel oil, diesel, gasoline, and other petroleum products, coal, or other energy fuels. Section 19(b)(2) provides that not more than 4 percent of the amounts made available under these grants may be used for planning and administrative expenses.

RUS is interested in gaining experience in the use of State revolving loan funds designed to help persons, particularly those in the more isolated rural areas, to manage their energy needs. RUS believes that such partnerships with State entities may serve to create new approaches to meeting the energy needs of rural residents. In considering applications for financial assistance under this grant program, RUS has determined to give particular consideration to projects that meet the needs of the persons in the most isolated rural areas.

Definitions

As used in this NOFA:

“Eligible area” means any area where fuel cannot be shipped routinely by means of surface transportation and must be delivered by water or air for a significant part of the year. Eligible areas include areas where fuel delivery by means of surface transportation is not practical or is prohibitively expensive and the area is primarily dependent on delivery of fuel by water or air.

“Fuel” means coal, oil, gasoline, and other petroleum products, and any other material that can be burned to make energy.

“State entity” means an agency, department, or instrumentality, or political subdivision of any of the several States of the United States or the District of Columbia, exclusive of local governments.

“Surface transportation” means transportation by road, rail, or pipeline.

Use of Grant Funds

Grantees must use grant funds to establish and support a revolving loan fund. The grantee must demonstrate that projects and activities that receive loans or other assistance under this grant will improve the cost-effectiveness of fuel purchases for persons in eligible areas. No more than 4 percent of grant funds may be used for planning and administrative expenses of the revolving fund.

Available Funds and Award Limitations

The amount of funds available for grants in FY 2001 is $5,000,000. The number of grant awards depends on the amount, quality, and competitiveness of applications submitted. RUS reserves the right to make one award in the full amount of $5,000,000. If, as a result of the evaluation of applications as provided in this NOFA, one or more applications are scored within 10 points of the application with the highest rank order, the RUS Administrator shall limit individual grant awards to $3,000,000 and fund such grant applications in rank order, except that the Administrator may exceed the $3,000,000 individual grant limit to ensure that grants are made in the aggregate amount of $5,000,000. RUS will advise applicants if it can not fully fund a grant request.

Eligible Applicants

Section 19 of the RE Act restricts eligible applicants to State entities, as defined above, in existence as of November 9, 2000. State grant recipients may partner with other entities, including other government agencies in carrying out the programs funded under these grants.

How To Apply For Assistance

Grant applications should be prepared in conformance with the provisions of this NOFA and applicable USDA regulations including 7 CFR parts 3015 and 3016. Applicants must submit a completed Standard Form (SF) 424, “Application for Federal Assistance,” a narrative grant proposal that establishes eligibility and addresses the selection criteria, and all required supporting information and documents. The applicant should submit an original and two copies of the proposal, with all required forms and documentation in one package as provided in the Addresses section of this NOFA.

Copies of required forms are available by request from the Agency contact or online through the RUS website at http://www.usda.gov/rus/electric/index.htm. Because of the short time period allowed for preparation and submittal of applications in this new grant program, RUS encourages applicants to consult with the agency contact person to resolve any questions or uncertainties about what is required to prepare and submit a grant application.

What To Include in the Application

Applicants should follow the guidelines of this notice in preparing their applications. The completed application should be assembled in the order specified with all pages numbered sequentially. The applicant must submit the following information for the application to be complete and considered for funding:

Part A. SF 424, “Application for Federal Assistance”

A completed SF 424 must be signed by an official authorized to submit the proposal on behalf of the State entity.

Part B. Grant Proposal

The grant proposal is a narrative description prepared by the applicant that establishes the applicant's eligibility and includes an assessment of the need for grant funds, a description of plans for use of grant funds, the potential benefits to be derived, and a proposed budget. Summary descriptions are adequate. Lengthy submissions are discouraged. The proposal should contain the following sections in the order indicated.

1. Executive Summary. The Executive Summary is a one page narrative summary that: (a) Identifies the State entity applying for the grant and the key agency contact with telephone and fax numbers, mailing address and email address; (b) states the amount of grant funds requested; and (c) provides a brief description of the proposed program including the estimated number of potential beneficiaries, i.e., persons or communities in eligible areas, their estimated fuel needs, the projects and activities to be financed through the revolving fund, and how financed projects and activities will improve the cost effectiveness of fuel procurement. The Executive Summary should also indicate whether the applicant is claiming additional scoring credits.

2. Applicant Eligibility. A brief narrative statement and supporting evidence establishing that the applicant is a State entity as defined in this notice, was in existence as of November 9, 2000, and has the legal authority to enter into a financial assistance relationship with the federal government. Examples of supporting evidence of eligibility include a reference to or copy of the relevant state statute, regulation, executive order, or legal opinion.

3. Assessment of Needs and Estimates of Potential Beneficiaries. In concise narrative form, estimates of the number, location, and population of potentially eligible areas in the State, and their estimated fuel needs and costs. The applicant should describe the criteria it uses to identify eligible areas, including the characteristics that make fuel deliveries by surface transport impossible or impractical and contribute to high energy costs. The population estimates should be based on U.S. Bureau of Census publications, where available. The applicant may support its assessment with exhibits such as maps, summary tables, and references to statistical information from the Bureau of the Census, the Energy Information Administration, state agencies, or private sources. Inclusion of information identifying the population in eligible areas may qualify the applicant for additional scoring credits based on the rurality of the area to be served.

The applicant should provide any appropriate information on the economic challenges facing potential beneficiaries including whether the eligible areas include a Federally-identified Empowerment Zone or Enterprise Community (EC/EZ) or a USDA designated Champion Community. The list of currently approved EC/EZ may be found at the EZ/EC website at: http://www.ezec.gov or may be requested from the agency contact. The list of currently designated Champion Communities may be found on the EZ/EC website at http://www.ezec.gov/Communit/champions.html or requested from the agency contact.

4. Program Overview. The applicant should describe the applicant's existing or proposed State revolving loan fund program, its proposed criteria for establishing eligibility of projects and activities to be financed through the program, how the program will improve the cost-effectiveness of fuel supply acquisition for eligible areas, and its proposed methods for evaluating program performance. The description should address the following:

a. Revolving fund program structure and management including its organizational structure, method of funding, legal authority, loan management experience, staff resources, the goals and objectives of the program, and any related services provided to program participants. If the revolving fund program is not yet operational, a proposed implementation schedule and milestones should be included. The applicant may, but is not required to, supplement its brief description with attachments to its application, such as, for example, annual reports, brochures, and loan agreements.

b. Beneficiary eligibility and selection. A brief description of any requirements to qualify for funding and the criteria to be used in establishing eligibility of projects and activities to be financed through the program. The applicant should describe how the potential beneficiaries will be informed of the revolving fund availability.

c. Cost effectiveness of funded projects and activities. The applicant should explain how the proposed revolving loan fund program will help provide cost-effective means of meeting fuel supply needs in eligible areas. The applicant should identify aspects of its program that encourage adoption of financially sustainable energy practices, adequate planning and investment in bulk fuel facility operations and maintenance, and cost-effective investments in energy efficiency taking into account resources available and characteristics of energy use within the eligible areas. For example, the revolving fund could support loans to upgrade fuel handling and storage capability, to fund the advance purchase, delivery and storage of fuel, and to secure volume and other purchase discounts. Where possible, the applicant should estimate the amount of cost savings to be realized and provide some documentation or references to support its statements on savings and improved services. The applicant should also describe how it plans to evaluate program success in conformance with its goals and objectives.

5. Proposed budget for use of grant funds. A proposed budget should be submitted on SF 424A, “Budget Information—Non-Construction Programs.” The budget identifies how the grant funds will be used. No more than 4 percent of the grant funds can be used for planning and administrative expenses of the revolving loan fund. The applicant should also identify the source and amount of any other funds that will be used to support and sustain the revolving fund activities. There is no requirement for supplemental or matching funds under this grant program; however, RUS will award additional selection points to applicants based on the ability to support and sustain the revolving fund, including through access to additional funding.

6. Any additional information that addresses the selection criteria or that the applicant believes relevant.

Part C. Additional Required Forms and Certifications

The Applicant shall execute and submit with the initial application the following forms and certifications establishing compliance with other federal requirements:

SF 424B, “Assurances—Non-Construction Programs”

SF LLL, “Disclosure of Lobbying Activities”

Form AD-1052, “Certification Regarding Drug-Free Workplace Requirements, States and State Agencies”

“Certification Regarding Debarment, Suspension and Other Responsibility Matter—Primary Covered Transactions” as required under 7 CFR part 3017, Appendix A.

These forms may be obtained from the Agency contact listed above or through the RUS website at http://www.usda.gov/rus/electric/index.htm.

Review of Applications

All applications for grants must be delivered to RUS at the address listed above or postmarked no later than August 6, 2001 to be eligible for FY 2001 grant funding. RUS will review each application for conformance with the provisions of this NOFA. RUS may contact the applicant for additional information or clarification. Incomplete applications will not be considered. Applications conforming with this NOFA will then be evaluated competitively by a panel of RUS employees selected by the Administrator and points awarded as described in the Evaluation Criteria and Weights Section below. After assigning points based on those criteria, the applications will be listed in rank order to the Administrator of RUS who will award the grants. The Administrator reserves the right to add 10 points to any proposal to ensure geographic distribution. Applications will then be funded in rank order until all available funds have been expended. If one or more applications are scored within 10 points of the application with the highest rank order, the RUS Administrator shall limit individual grant awards to $3,000,000 and fund such grant applications in rank order, except that the Administrator may exceed the $3,000,000 individual grant limit to ensure that grants are made in the aggregate amount of $5,000,000. RUS will advise applicants if it can not fully fund a grant request.

Selection Criteria and Weights

RUS will evaluate each application according to the selection criteria described in this NOFA and award points up to the maximum number indicated under each criteria.

1. Proposed Program Design (Maximum 20 Points)

Reviewers will consider the approach and viability of the applicant's program design, including the goals and objectives of the program, the proposed criteria for establishing eligibility of projects and activities for loans and financial assistance, and how the program will improve the cost-effectiveness of bulk fuel purchases. Reviewers will also consider the extent to which the proposal will promote the adoption of financially sustainable energy practices, adequate planning and investment in bulk fuel facility operations and maintenance, and cost-effective investments in energy efficiency taking into account the resources available and the characteristics of energy use within eligible areas. The reviewers will consider the applicant's proposed budget, the adequacy of resources, and the evidence of sound loan and financial management practices.

2. Assessment of Needs and Identification of Potential Beneficiaries (Maximum 20 Points)

Reviewers will consider the applicant's identification of potential beneficiaries, i.e. persons in eligible areas, the applicant's assessment of bulk fuel needs, the costs, including delivery costs of fuel for the beneficiaries, and the challenges to be addressed by the program. Information on the severity of physical and economic challenges affecting eligible areas will be considered.

3. Evaluation Methods (Maximum 10 Points)

Reviewers will consider the applicant's proposed measures to evaluate and report on the success and cost-effectiveness of projects and activities financed by the revolving loan fund and whether the results obtained will contribute to program improvements for the applicant or for other States seeking to implement similar programs.

4. Demonstrated Experience (Maximum 5 Points)

Reviewers will consider the past accomplishments and experience of the applicant, including whether the applicant has demonstrated experience in administering a revolving fund providing financing for bulk fuel purchases or facilities.

5. Comparative Rurality (Maximum 20 Points)

Reviewers will consider the rurality of the eligible areas proposed to be served with grant funds to assure that the needs of less densely populated rural areas are considered. For purposes of determining the rurality of the eligible area, applicants shall use the latest publications of the Bureau of the Census. If the majority of persons in eligible areas live outside of communities of 2,500 persons or more, the applicant will receive 15 points. If the majority of persons in eligible areas live outside of communities of 5,000 persons or more, the applicant will receive 10 points. If the majority of persons in eligible areas live outside of communities of 20,000 persons or more, the applicant will receive 5 points. If the majority of persons in eligible areas live in communities of more than 20,000 persons, the applicant will receive no points. Any proposal, however, that gives priority in assistance to projects that benefit persons living outside of communities of 2,500 or more will receive 5 additional points.

The following examples, each of which assumes a total population of 12,000 within eligible areas, illustrate how points will be awarded for comparative rurality under this criterion:

Case 1: There is one community of 4,000 within the eligible areas. The majority of persons (i.e. 8,000 of 12,000) live outside of communities of 2,500 or more. Award: 15 points.

Case 2: There are two communities. One has a population of 2,600; the other has 5,100. The majority of persons (i.e. 12,000−5,100=6,900) live outside of communities of 5,000 or more, but not outside of communities of 2,500 or more. Award: 10 points.

Case 3: There are two communities. One has a population of 2,000; the other has 7,000. The majority of persons (i.e. 7,000) live outside of communities of 20,000, but not outside of communities of 5,000. Award: 5 points.

6. Program Support (Maximum 5 Points)

Reviewers will consider the ability of the applicant to support and sustain the revolving fund, including access to additional funding sources. If the proposal includes additional funding from state or other sources to support the revolving fund, the maximum 5 points will be awarded.

7. Participation by EZ/EC (Maximum 10 Points)

Reviewers will consider whether the eligible areas include a Federally-identified Empowerment Zone and Enterprise Community (EC/EZ ). If the eligible area includes at least one EC/EZ area, 10 points will be awarded. The list of currently approved EC/EZ areas may be found at the EZ/EC website at: http://www.ezec.gov or may be requested from the agency contact.

8. Participation by Champion Community (Maximum 8 Points)

Reviewers will consider whether the eligible areas include at least one community that is a USDA identified “Champion Community.” If a Champion Community is included in the eligible areas, 8 points will be awarded. The list of currently approved USDA champion communities may be found at the EZ/EC website at http://www.ezec.gov/Communit/champions.html or may be requested from the agency contact.

Grantee Requirements

RUS will notify successful grantees of the awards. Successful applicants will be required to execute a grant agreement satisfactory to RUS, complete additional forms, and otherwise comply with applicable federal statutes and regulations required by USDA. Among other matters, the grantee may be asked to provide information, documents, and agreements necessary to comply with applicable environmental regulations and will be required to provide periodic financial and performance reports and submit a final project performance report.

Other Federal Statutes and Regulations

Several other federal statutes and regulations apply to proposals considered for review and to the grant awarded. These include, but are not limited to:

7 CFR part 15, subpart A—Nondiscrimination in Federally Assisted Programs of the Department of Agriculture—Effectuation of Title VI of the Civil Rights Act of 1964.

7 CFR part 3015—Uniform Federal Assistance Regulations.

7 CFR part 3016—Uniform Administrative Requirements for Grants and Cooperative Agreements to State and Local Governments.

7 CFR part 3017—Governmentwide Debarment and Suspension (Nonprocurement) and Governmentwide Requirements for Drug-Free Workplace (Grants).

7 CFR part 3018—New Restrictions on Lobbying.

7 CFR part 3052—Audits of States, Local Governments, and Non-Profit Organizations.

Dated: July 2, 2001.
Blaine D. Stockton,
Acting Administrator, Rural Utilities Service.

[FR Doc. 01-16971 Filed 7-5-01; 8:45 am]

BILLING CODE 3410-15-P